DEPARTMENT OF TRANSPORTATION

National Highway Traffic Safety Administration

[Docket No. NHTSA-2001-10044; Notice 1]

Reliance Trailer Co., LLC; Application for Temporary Exemption From Federal Motor Vehicle Safety Standard No. 224

We are asking for comments on the application by Reliance Trailer Co., LLC, of Spokane, Washington (“Reliance”), for an exemption of two years from Motor Vehicle Safety Standard No. 224 Rear Impact Protection. Reliance asserts that compliance would cause substantial economic hardship to a manufacturer that has tried in good faith to comply with the standard.

We are publishing this notice of receipt of the application in accordance with our regulations on the subject. This action does not mean that we have made a judgment yet about the merits of the application.

Why Reliance Says That It Needs an Exemption.

In February 2001, Reliance acquired the assets of SturdyWeld, another Washington company, in order to commence manufacture of “trailers built to mate with asphalt paving equipment.” This appears to be a horizontal discharge trailer that is used in the road construction industry to deliver asphalt and other road building materials to the construction site.

Standard No. 224 requires, effective January 26, 1998, that all trailers with a GVWR of 4536 Kg or more, including Reliance's trailers, be fitted with a rear impact guard that conforms to Standard No. 223 Rear impact guards. Reliance argued that installation of the rear impact guard will prevent its trailers from connecting to the paver and performing their mission. Thus, its trailers will no longer be functional.

Reliance's Reasons Why It Believes That Compliance Would Cause It Substantial Economic Hardship and That It Has Tried in Good Faith to Comply with Standard No. 224

Reliance is a small volume manufacturer whose total production in the 12-month period preceding its petition was 268 trailers. In the absence of an exemption, Reliance says that “considering the over $2 million paid for the [SturdyWeld] Division and if we are able to sell the over $1 million inventory, but have to shut this operation down, we would probably lose over $1 million.” Its cumulative net income after taxes for the fiscal years 1998, 1999, and 2000 was $150,793.

Reliance apparently learned of its compliance problem after producing 26 of the trailers in question. It has determined that these trailers fail to comply with Standard No. 224, and has notified NHTSA pursuant to 49 CFR Part 573. It has also filed a petition for a determination that the noncompliance is inconsequential to safety. Reliance has also discovered that “this is a nationwide, yet unsolved, problem,” citing three manufacturers of similar trailers who have received temporary exemptions from Standard No. 224, Beall Trailers, Red River Manufacturing, and Dan Hill Associates.

The petition discusses “possible alternative means of compliance” which “will include the analysis of moveable, replaceable or retractable under-rides. To date these concepts are very difficult to maintain due to the nature of the paving material.” After discussion with its customers, Reliance “will proceed to design, build and test prototype designs to meet the regulations and allow dumping asphalt into paving equipment.” It believes that it will comply by the end of a two-year exemption period.

Reliance's Reasons Why It Believes That a Temporary Exemption Would Be in the Public Interest and Consistent with Objectives of Motor Vehicle Safety

Reliance argues that an exemption would be in the public interest and consistent with traffic safety objectives because the trailers “represent about 80% of the output of the 38 employees” of the SturdyWeld division, and, “if this petition is denied, the operation will be closed and those people will be out of jobs.” An exemption would allow it “to continue to provide equipment needed by road building industries to expand and develop” the national transportation system.

The trailers will be built in small quantities. “Typical hauls are short” with a minimal amount of time traveling on highways compared with most freight trailers,” which “diminishes the exposure for these vehicles.” Reliance knows of no rear end collisions and consequent injuries with its type of trailer.

How You May Comment on Reliance's Application

If you would like to comment on Reliance's application, please do so in writing, in duplicate, referring to the docket and notice number, and mail to: Docket Management, National Highway Traffic Safety Administration, room PL-401, 400 Seventh Street, SW., Washington, DC 20590.

We shall consider all comments received before the close of business on the date indicated below. Comments are available for examination in the docket in room PL-401 both before and after that date, between the hours of 10 a.m. and 5 p.m. To the extent possible, we also consider comments filed after the closing date. We will publish our decision on the application, pursuant to the authority indicated below.

Comment closing date: August 9, 2001.

Authority: 49 U.S.C. 30113; delegations of authority at 49 CFR 1.50 and 501.4.

Issued on July 5, 2001.
Stephen R. Kratzke,
Associate Administrator for Safety Performance Standards.

[FR Doc. 01-17229 Filed 7-9-01; 8:45 am]

BILLING CODE 4910-59-P